DEPARTMENT OF THE INTERIOR

Fish and Wildlife Service

[FWS-R2-R-2010-N158; 20131-1265-2CCP S3]

Little River National Wildlife Refuge, McCurtain County, OK; Revised Comprehensive Conservation Plan and Environmental Assessment

AGENCY: Fish and Wildlife Service, Interior.

ACTION: Notice of intent; request for comments.

SUMMARY: We, the U.S. Fish and Wildlife Service (Service), intend to prepare a revised comprehensive conservation plan (CCP) and environmental assessment (EA) for Little River National Wildlife Refuge, located in McCurtain County, Oklahoma. We provide this notice in compliance with our CCP policy to advise other Federal and State agencies, Tribes, and the public of our intentions, and to obtain suggestions and information on the scope of issues to consider in the planning process.

DATES: To ensure consideration, please send your written comments by March 14, 2011. We will announce opportunities for public input in local news media throughout the CCP process.

ADDRESSES: Send your comments or requests for more information by any of the following methods.

E-mail: rob_campellone@fws.gov. Include “Little River National Wildlife Refuge CCP NOI” in the subject line of the message.

Fax: Attn: Rob Campellone, Chief, Division of Planning, 505-248-6803.

U.S. Mail: Rob Campellone, Chief, Division of Planning, P.O. Box 1306, Albuquerque, NM 87103-1306.

In-Person Drop-off: You may drop off comments during regular business hours at the Refuge Headquarters located at 635 South Park Drive, Broken Bow, OK 74728.

FOR FURTHER INFORMATION CONTACT: Rob Campellone, Chief, Division of Planning, Telephone: 505-248-6631; Fax: 505-248-6803; e-mail: rob_campellone@fws.gov.

SUPPLEMENTARY INFORMATION:

Introduction

With this notice, we initiate our process for developing a revised CCP for Little River NWR (Refuge), located in McCurtain County, OK. This notice complies with our CCP policy to (1) Advise other Federal and State agencies, Tribes, and the public of our intention to conduct detailed planning on this Refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide Refuge Managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act, as amended.

Each unit of the National Wildlife Refuge System was established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of Little River NWR.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Little River National Wildlife Refuge

Little River National Wildlife Refuge is located in McCurtain County, Oklahoma, and encompasses 13,660 acres of bottomland hardwood forests. The Refuge is approximately 96 percent forested with small areas of open water, shrub swamps, beaver ponds, and roads. The plant communities are complex and reflect small elevation changes, complex soils and hydrologic regimes, and other ecosystem processes that have created and maintained a highly diverse plant community across the Refuge. The forested matrix contains mostly natural second- and third-growth bottomland hardwood forests, with inclusions of loblolly pine components on high terraces and stringers of riparian forests along the rivers, cypress swamps and cypress-lined oxbow lakes, and buttonbush shrub swamps. The canopy trees are roughly 50-70 years old with scattered patches of much older trees where topography and drainage patterns precluded timber harvest prior to the Refuge's establishment.

Scoping: Preliminary Issues, Concerns, and Opportunities

We have identified preliminary issues, concerns, and opportunities that we may address in the CCP. We have briefly summarized these issues below. During public scoping, we may identify additional issues.

Habitat Issues—Habitat alteration, fragmentation, and loss of the bottomland hardwood forest and freshwater ecosystems.

The bottomland hardwood forest ecosystem habitat located in the Upper West Gulf Coastal Plain has been influenced through human disturbances (development and/or exploitation) and faces rapid alterations and disturbances as a consequence of climate change. These impacts are expected to stress and alter the bottomland hardwood forest ecosystem utilized by trust wildlife resources. Long-term unmitigated impacts are expected to create population and habitat shifts, increase invasive species, and change forest productivity.

Human activities causing pollution and water quantity and quality degradation, along with habitat fragmentation and loss, have caused environmental changes in freshwater systems. The Little River drains a watershed of approximately 2,225 square miles and provides habitat for the Federally listed Ouachita rock pocketbook mussel (Arkanasii wheeleri), Scaleshell mussel (Leptodea leptodon), and Winged mapleleaf mussel (Quadrula fragosa), along with a host of other imperiled freshwater species. Human-created stressors, along with climate change stressors, can negatively affect the biodiversity of freshwater ecosystems. These impacts are expected to alter the freshwater ecosystem utilized by USFWS trust resources and the human population.

Wildlife Issues—Feral hog management and migratory birds.

The presence of feral hogs (Sus scrofa) results in substantial damages to the natural resources on the refuge. The detrimental effects of free-ranging feral hogs can be found throughout the entire refuge, as population numbers have increased without a control mechanism. Feral hogs are highly adaptable, have high reproductive capabilities, and can be found in a wide range of habitat types. Feral hogs cause widespread impacts to the refuge habitat, compete with native wildlife species for food resources, and can transmit infectious diseases to humans, domestic livestock, and native wildlife species.

Trust migratory bird species that the U.S. Fish and Wildlife Service is mandated to protect are under pressure and at risk from a number of stressors (e.g., habitat loss and degradation, development, pollution, and invasive species), in addition to climate change. Evidence suggests that climate change is affecting the distribution, abundance, and population dynamics of a wide range of migratory bird species (forest dwelling and waterfowl) that rely on a bottomland hardwood forest ecosystem to provide essential habitat for survival.

Public Use Opportunities and Access—Enhancing Wildlife Dependent Recreation Opportunities.

The bottomland hardwood forest protected by the Little River NWR provides the public with quality recreational opportunities to learn about and enjoy the ecological diversity and history of the refuge in a largely natural setting. Improving opportunities for wildlife-dependent recreational uses (six priority public uses) that are compatible with the purpose of the refuge will promote broader community support and understanding of the value and need for wildlife conservation and protection.

Facilities—Public Contact Station.

The refuge receives over 10,000 visitors annually, and visitor use continues to rise as the public becomes more aware of the wide variety of wildlife-dependent recreational opportunities provided by the refuge. A public contact station is needed to provide facilities to enhance the public's experience of nature and the great outdoors and to educate the public about the mission of the National Wildlife Refuge System and the role of Little River NWR in achieving it.

Public Meetings

We will give the public an opportunity to provide input at one or more public meetings. You may obtain the schedule from the planning team leader or project leader (see addresses). You may also send comments anytime during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 11, 2010.
Joy E. Nicholopoulos,
Regional Director, U.S. Fish and Wildlife, Region 2.

[FR Doc. 2010-22732 Filed 9-10-10; 8:45 am]

BILLING CODE 4310-55-P